FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 002206-008.

Title: California Association of Port Authorities—Northwest Marine Terminal Association Terminal Discussion Agreement.

Parties: California Association of Port Authorities; and Northwest Marine Terminal Association.

Filing Party: Jaime Amador, Executive Officer; Northwest Marine Terminal Association; P.O. Box 1970, Shelton, WA 98584.

Synopsis: The amendment would add the Northwest Seaport Alliance as a member to the Northwest Marine Terminal Association and reflect the withdrawal of the Port of Tacoma from the Northwest Marine Terminal Association.

Agreement No.: 009335-009.

Title: Northwest Marine Terminal Association, Inc. Agreement.

Parties: Port of Anacortes; Port of Astoria; Port of Bellingham; Port of Coos Bay; Port of Everett; Port of Grays Harbor; Port of Kalama; Port of Longview; Port of Olympia; Port of Pasco; Port of Port Angeles; Port of Portland; Port of Seattle; Port of St. Helens; Port of Tacoma; and Port of Vancouver, USA.

Filing Party: Jaime Amador, Executive Officer; Northwest Marine Terminal Association; P.O. Box 1970, Shelton, WA 98584.

Synopsis: The amendment would add the Northwest Seaport Alliance as a member to the agreement.

By Order of the Federal Maritime Commission.
Dated: September 16, 2016.
Karen V. Gregory,
Managing Director.

[FR Doc. 2016-22773 Filed 9-20-16; 8:45 am]

BILLING CODE 6731-AA-P